DEPARTMENT OF TRANSPORTATION

Federal Aviation Administration

14 CFR Part 39

[Docket No. FAA-2018-0028; Product Identifier 2017-NM-143-AD]

RIN 2120-AA64

Airworthiness Directives; Bombardier, Inc., Airplanes

AGENCY: Federal Aviation Administration (FAA), DOT.

ACTION: Notice of proposed rulemaking (NPRM).

SUMMARY: We propose to adopt a new airworthiness directive (AD) for certain Bombardier, Inc., Model CL-600-1A11 (CL-600), CL-600-2A12 (CL-601 Variant), and CL-600-2B16 (CL-601-3A, CL-601-3R, and CL-604 Variants) airplanes. This proposed AD was prompted by a determination that the safe life limits of the horizontal stabilizer trim actuator (HSTA) attachment pins and trunnions were not listed in certain airworthiness limitations (AWLs) and that the HSTA attachment pins and trunnions were not serialized. This proposed AD would require revision of the maintenance or inspection program, as applicable, to include the latest revision of the AWLs, serialization of the HSTA attachment pins and trunnions, and repair or replacement of damaged HSTA attachment pins and trunnions. We are proposing this AD to address the unsafe condition on these products.

DATES: We must receive comments on this proposed AD by March 26, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 1601 Lind Avenue SW, Renton, WA. For information on the availability of this material at the FAA, call 425-227-1221.

Examining the AD Docket

You may examine the AD docket on the internet at http://www.regulations.gov by searching for and locating Docket No. FAA-2018-0028; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Section, FAA, New York ACO Branch, 1600 Stewart Avenue, Suite 410, Westbury, NY 11590; telephone 516-228-7239; fax 516-794-5531.

SUPPLEMENTARY INFORMATION:

Comments Invited

We invite you to send any written relevant data, views, or arguments about this proposed AD. Send your comments to an address listed under the ADDRESSES section. Include “Docket No. FAA-2018-0028; Product Identifier 2017-NM-143-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

Transport Canada Civil Aviation (TCCA), which is the aviation authority for Canada, has issued Canadian Airworthiness Directive CF-2017-24, dated July 12, 2017 (referred to after this as the Mandatory Continuing Airworthiness Information, or “the MCAI”), to correct an unsafe condition for certain Bombardier, Inc., Model CL-600-1A11 (CL-600), CL-600-2A12 (CL-601 Variant), and CL-600-2B16 (CL-601-3A, CL-601-3R, and CL-604 Variants) airplanes. The MCAI states:

During a review of the Horizontal Stabilizer Trim Actuator (HSTA) system, it was discovered that the safe life limits of the HSTA attachment pins and trunnions were not listed in the Airworthiness Limitation (AWL) Section of the Instructions for Continued Airworthiness. Also, the HSTA attachment pins and trunnions were not serialized making it impossible to keep accurate records of the life of these parts. Failure of these pins and trunnions could lead to a disconnect of the horizontal stabilizer and subsequent loss of the aeroplane.

This [Canadian] AD mandates the incorporation of AWL tasks into the maintenance schedule and serialization of HSTA attachment pins and trunnions. Some aircraft require AWL tasks and serialization of the attachment pins only, while others require AWL tasks and serialization of the trunnions and attachment pins [and repair or replacement if damaged (including linear scratches, pits, spalling, dents, or surface texture variations)].

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (m)(1) of this proposed AD. The request should include a description of changes to the required actions that will ensure the continued operational safety of the airplane.

You may examine the MCAI in the AD docket on the internet at http://www.regulations.gov by searching for and locating Docket No. FAA-2018-0028.

Related Service Information Under 1 CFR Part 51

Bombardier, Inc., has issued the following service information.

The following service information describes procedures for serializing the HSTA attachment pins and trunnions. These documents are distinct since they apply to different airplane models in different configurations.

• Bombardier Service Bulletin 600-0760, Revision 01, dated April 21, 2017.

• Bombardier Service Bulletin 601-0626, Revision 01, dated April 21, 2017.

• Bombardier Service Bulletin 604-27-034, Revision 01, dated April 21, 2017.

• Bombardier Service Bulletin 605-27-005, Revision 01, dated April 21, 2017.

The following service information identifies airworthiness limitation tasks for revising the life limits for HSTA attachment pins and trunnions. These documents are distinct since they apply to different airplane models in different configurations.

• Task 5-10-10, “Time Limits (Structural),” of Section 5-10-00, “Airworthiness Limitations,” of Bombardier Challenger 600 Time Limits/Maintenance Checks, Publication No. PSP 605, Revision 38, dated March 28, 2017.

• Task 5-10-10, “Time Limits (Structural)—Pre SB 601—0280,” of Section 5-10-00, “Airworthiness Limitations,” of Bombardier Challenger 601 Time Limits/Maintenance Checks, Publication No. PSP 601-5, Revision 45, dated March 28, 2017.

• Task 5-10-11, “Time Limits (Structural)—Post SB 601—0280,” of Section 5-10-00, “Airworthiness Limitations,” of Bombardier Challenger 601 Time Limits/Maintenance Checks, Publication No. PSP 601-5, Revision 45, dated March 28, 2017.

• Task 5-10-12, “Time Limits (Structural)—Post SB 601—0360,” of Section 5-10-00, “Airworthiness Limitations,” of Bombardier Challenger 601 Time Limits/Maintenance Checks, Publication No. PSP 601-5, Revision 45, dated March 28, 2017.

• Task 5-10-10, “Time Limits (Structural),” of Section 5-10-00, “Airworthiness Limitations,” of Bombardier Challenger 601 Time Limits/Maintenance Checks, Publication No. PSP-601A5, Revision 41, dated March 28, 2017.

• Task 5-10-11, “Time Limits (Structural),” of Section 5-10-00, “Airworthiness Limitations,” of Bombardier Challenger 601 Time Limits/Maintenance Checks, Publication No. PSP-601A5, Revision 41, dated March 28, 2017.

• Task 5-10-12, “Time Limits (Structural),” of Section 5-10-00, “Airworthiness Limitations,” of Bombardier Challenger 601 Time Limits/Maintenance Checks, Publication No. PSP-601A5, Revision 41, dated March 28, 2017.

The following service information describes life limits for certain HSTA attachment pins and trunnion supports. These documents are distinct since they apply to different airplane models in different configurations.

• Task 27-42-01-108, “Discard of the Horizontal-Stabilizer Trim-Actuator (HSTA) Trunnion Support; Part No. 601R92386-1/-3,” of Section 5-10-10, “Life Limits (Structures),” of Bombardier Challenger 604 CL-604 Time Limits/Maintenance Checks, Part 2 Airworthiness Limitations, Revision 29, dated June 16, 2017.

• Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3,” of Section 5-10-10, “Life Limits (Structures),” of Bombardier Challenger 604 CL-604 Time Limits/Maintenance Checks, Part 2 Airworthiness Limitations, Revision 29, dated June 16, 2017.

• Task 27-42-01-108, “Discard of the Horizontal-Stabilizer Trim-Actuator (HSTA) Trunnion Support; Part No. 601R92386-1/-3,” of Section 5-10-10, “Life Limits (Structures),” of Bombardier Challenger 605 CL-605 Time Limits/Maintenance Checks, Part 2 Airworthiness Limitations, Revision 17, dated June 16, 2017.

• Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3,” of Section 5-10-10, “Life Limits (Structures),” of Bombardier Challenger 605 CL-605 Time Limits/Maintenance Checks, Part 2 Airworthiness Limitations, Revision 17, dated June 16, 2017.

• Task 27-42-01-108, “Discard of the Horizontal-Stabilizer Trim-Actuator (HSTA) Trunnion Support; Part No. 601R92386-1/-3,” of Section 5-10-10, “Life Limits (Structures),” of Bombardier Challenger 650 CL-650 Time Limits/Maintenance Checks, Part 2 Airworthiness Limitations, Revision 4, dated June 16, 2017.

• Task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3,” of Section 5-10-10, “Life Limits (Structures),” of Bombardier Challenger 650 CL-650 Time Limits/Maintenance Checks, Part 2 Airworthiness Limitations, Revision 4, dated June 16, 2017.

The following service information describes procedures for identifying damage to HSTA attachment pins and trunnions, and repair or replacement instructions. These documents are distinct since they apply to different airplane models in different configurations.

• Bombardier Repair Engineering Order (REO) 600-27-42-002, “General Repair—HSTA Upper and Lower Pins,” dated December 15, 2016.

• Bombardier Repair Engineering Order (REO) 600-27-42-011, “General Repair—HSTA Trunnion P/N 601R92386-1/-3,” dated December 15, 2016.

• Bombardier Repair Engineering Order (REO) 604-27-42-012, “General Repair—HSTA Upper and Lower Pins,” dated December 15, 2016.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 137 airplanes of U.S. registry.

We estimate the following costs to comply with this proposed AD:

Estimated Costs
Action | Labor cost | Parts cost | Cost per product | Cost on U.S. operators
Revision of maintenance or inspection program | 1 work-hour × $85 per hour = $85 | $0 | $85 | $11,645.
Serialization | Up to 20 work-hours × $85 per hour = $1,700 | 449 | Up to $2,149 | Up to $294,413.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2018-0028; Product Identifier 2017-NM-143-AD.

(a) Comments Due Date

We must receive comments by March 26, 2018.

(b) Affected ADs

None.

(c) Applicability

This AD applies to the Bombardier, Inc., airplanes identified in paragraphs (c)(1) through (c)(4) of this AD, certificated in any category.

(1) Model CL-600-1A11 (CL-600) airplanes, serial numbers 1002 and 1004 through 1085 inclusive.

(2) Model CL-600-2A12 (CL-601 Variant) airplanes, serial numbers 3001 through 3066 inclusive.

(3) Model CL-600-2B16 (CL-601-3A and CL-601-3R Variants) airplanes, serial numbers 5001 through 5194 inclusive.

(4) Model CL-600-2B16 (CL-604 Variant) airplanes, serial numbers 5301 through 5665 inclusive, 5701 through 5990 inclusive, and 6050 and subsequent.

(d) Subject

Air Transport Association (ATA) of America Code 27, Flight controls.

(e) Reason

This AD was prompted by a determination that the safe life limits of the horizontal stabilizer trim actuator (HSTA) attachment pins and trunnions were not listed in certain airworthiness limitations (AWLs) and that the HSTA attachment pins and trunnions were not serialized. We are issuing this AD to prevent failure of the HSTA attachment pins and trunnions, which could lead to a disconnect of the horizontal stabilizer and subsequent loss of the airplane.

(f) Compliance

Comply with this AD within the compliance times specified, unless already done.

(g) Maintenance or Inspection Program Revision for Model CL-600-1A11 (CL-600), Model CL-600-2A12 (CL-601 Variant), and Model CL-600-2B16 (CL-601-3A and CL-601-3R Variants) Airplanes

For airplanes identified in paragraphs (c)(1), (c)(2), and (c)(3) of this AD: Within 60 days after the effective date of this AD, revise the maintenance or inspection program, as applicable, to incorporate the life limit AWL tasks identified in table 1 to paragraph (g) of this AD, as specified in the applicable service information identified in paragraphs (g)(1), (g)(2), or (g)(3) of this AD. The initial compliance time is within 500 flight cycles of the effective date of this AD, or at the applicable time (in terms of landings) specified in the applicable AWL task identified in table 1 to paragraph (g) of this AD, whichever occurs later.

(1) For Model CL-600-1A11 (CL-600) airplanes, Task 5-10-10, “Time Limits (Structural),” of Section 5-10-00, “Airworthiness Limitations,” of Bombardier Challenger 600 Time Limits/Maintenance Checks, Publication No. PSP 605, Revision 38, dated March 28, 2017.

(2) For Model CL-600-2A12 (CL-601 Variant) airplanes, the applicable task specified in paragraph (g)(2)(i), (g)(2)(ii), or (g)(2)(iii) of this AD, as identified in Section 5-10-00, “Airworthiness Limitations,” of Bombardier Challenger 601 Time Limits/Maintenance Checks, Publication No. PSP 601-5, Revision 45, dated March 28, 2017.

(i) Task 5-10-10, “Time Limits (Structural)—Pre SB 601-0280.”

(ii) Task 5-10-11, “Time Limits (Structural)—Post SB 601-0280.”

(iii) Task 5-10-12, “Time Limits (Structural)—Post SB 601-0360.”

(3) For Model CL-600-2B16 (CL-601-3A and CL-601-3R Variants) airplanes, the applicable task specified in paragraph (g)(3)(i), (g)(3)(ii) or (g)(3)(iii) of this AD, as identified in Section 5-10-00, “Airworthiness Limitations,” of Bombardier Challenger 601 Time Limits/Maintenance Checks, Publication No. PSP-601A5, Revision 41, dated March 28, 2017.

(i) Task 5-10-10, “Time Limits (Structural).”

(ii) Task 5-10-11, “Time Limits (Structural).”

(iii) Task 5-10-12, “Time Limits (Structural).”

(h) Maintenance or Inspection Program Revision for Model CL-600-2B16 (CL-604 Variant) Airplanes

For airplanes identified in paragraph (c)(4) of this AD: Within 60 days after the effective date of this AD, revise the maintenance or inspection program, as applicable, to incorporate new life limit AWL task 27-42-01-108, “Discard of the Horizontal-Stabilizer Trim-Actuator (HSTA) Trunnion Support; Part No. 601R92386-1/-3,” and task 27-42-01-112, “Discard of the Horizontal-Stabilizer Trim-Actuator (HSTA) Upper and Lower Attachment Pins; Upper Pin Part No. 600-92384-5/-7 or 601R92310-1/-3 and Lower Pin Part No. 600-92383-5/-7 or 601R92309-1/-3,” as specified in the applicable time limits maintenance checks (TLMC) manuals identified in paragraphs (h)(1), (h)(2), and (h)(3) of this AD. The initial compliance time is within 500 flight cycles after the effective date of this AD, or at the applicable time specified in the applicable AWL task, whichever occurs later.

(1) For airplanes having serial numbers 5301 through 5665 inclusive: Section 5-10-10, “Life Limits (Structures),” of Bombardier Challenger 604 CL-604 Time Limits/Maintenance Checks, Part 2 Airworthiness Limitations, Revision 29, dated June 16, 2017.

(2) For airplanes having serial numbers 5701 through 5990 inclusive: Section 5-10-10, “Life Limits (Structures),” of Bombardier Challenger 605 CL-605 Time Limits/Maintenance Checks, Part 2 Airworthiness Limitations, Revision 17, dated June 16, 2017.

(3) For airplanes having serial numbers 6050 and subsequent: Section 5-10-10, “Life Limits (Structures),” of Bombardier Challenger 650 CL-650 Time Limits/Maintenance Checks, Part 2 Airworthiness Limitations, Revision 4, dated June 16, 2017.

(i) Serialization of HSTA Attachment Pins and Trunnions

For airplanes identified in table 2 to paragraph (i) of this AD: Within 48 months after the effective date of this AD, or prior to performing a maintenance task required by paragraph (g) or (h) of this AD, as applicable, whichever occurs first, do a general visual inspection for damage (including linear scratches, pits, spalling, dents, or surface texture variations), and add serial numbers to the HSTA trunnions, lower attachment pin, and upper attachment pin, as applicable, in accordance with the Accomplishment Instructions of the applicable service information specified in table (2) to paragraph (i) of this AD. If any damage to the HSTA trunnions or attachment pins is found, repair the damage in accordance with the applicable service information specified in paragraph (i)(1), (i)(2), or (i)(3) of this AD; or using a method approved by the Manager, New York ACO Branch, FAA; or Transport Canada Civil Aviation (TCCA); or Bombardier, Inc.'s TCCA Design Approval Organization (DAO). If approved by the DAO, the approval must include the DAO-authorized signature. If the damaged HSTA trunnion or attachment pin cannot be repaired in accordance with the applicable service information specified in paragraph (i)(1), (i)(2), or (i)(3) of this AD: Before further flight, replace the damaged HSTA trunnion or attachment pin with a serviceable serialized HSTA trunnion or attachment pin, in accordance with the applicable service information specified in table (2) to paragraph (i) of this AD.

(1) Bombardier Repair Engineering Order (REO) 600-27-42-002, “General Repair—HSTA Upper and Lower Pins,” dated December 15, 2016.

(2) Bombardier Repair Engineering Order (REO) 600-27-42-011, “General Repair—HSTA Trunnion P/N 601R92386-1/-3,” dated December 15, 2016.

(3) Bombardier Repair Engineering Order (REO) 604-27-42-012, “General Repair—HSTA Upper and Lower Pins,” dated December 15, 2016.

BILLING CODE 4910-13-P

BILLING CODE 4910-13-C

(j) No Alternative Actions or Intervals

After the maintenance or inspection program has been revised as required by paragraph (g) or (h) of this AD, no alternative actions (e.g., inspections) or intervals may be used unless the actions or intervals are approved as an alternative method of compliance (AMOC) in accordance with the procedures specified in paragraph (m)(1) of this AD.

(k) Credit for Previous Actions

This paragraph provides credit for actions required by paragraph (i) of this AD, if those actions were performed before the effective date of this AD using the service information specified in paragraph (k)(1), (k)(2), (k)(3), or (k)(4) of this AD, as applicable.

(1) Bombardier Service Bulletin 600-0760, dated February 25, 2013.

(2) Bombardier Service Bulletin 601-0626, dated February 25, 2013.

(3) Bombardier Service Bulletin 604-27-034, dated February 25, 2013.

(4) Bombardier Service Bulletin 605-27-005, dated February 25, 2013.

(l) Parts Installation Limitations

(1) As of the effective date of this AD, no person may install, on any airplane, an HSTA attachment pin, unless the pin has a serial number.

(2) As of the effective date of this AD, no person may install, on any Bombardier, Inc., Model CL-600-2B16 (CL-604 Variant) airplane with serial number 5301 and subsequent, an HSTA trunnion, unless the HSTA trunnion has a serial number.

(m) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or TCCA; or Bombardier, Inc.'s TCCA DAO. If approved by the DAO, the approval must include the DAO-authorized signature.

(n) Related Information

(1) Refer to Mandatory Continuing Airworthiness Information (MCAI) Canadian Airworthiness Directive CF-2017-24, dated July 12, 2017, for related information. This MCAI may be found in the AD docket on the internet at http://www.regulations.gov by searching for and locating Docket No. FAA-2018-0028.

(2) For more information about this AD, contact Aziz Ahmed, Aerospace Engineer, Airframe and Mechanical Systems Section, FAA, New York ACO Branch, 1600 Stewart Avenue, Suite 410, Westbury, NY 11590; telephone 516-228-7239; fax 516-794-5531.

(3) For service information identified in this AD, contact Bombardier, Inc., 400 Côte Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 1601 Lind Avenue SW, Renton, WA. For information on the availability of this material at the FAA, call 425-227-1221.

Issued in Renton, Washington, on January 26, 2018.
Michael Kaszycki,
Acting Director, System Oversight Division, Aircraft Certification Service.

[FR Doc. 2018-02088 Filed 2-7-18; 8:45 am]

BILLING CODE 4910-13-P